DEPARTMENT OF TRANSPORTATION

Federal Aviation Administration

Noise Compatibility Program for Camarillo Airport, Ventura County, California

AGENCY: Federal Aviation Administration, DOT.

ACTION: Acceptance of Camarillo Airport Noise Exposure Map.

SUMMARY: The Federal Aviation Administration (FAA) announces its determination that the noise exposure map submitted by County of Ventura for Camarillo Airport is compliant with applicable statutory and regulatory requirements.

DATES: The effective date of the FAA's determination on the noise exposure map is June 6, 2025.

FOR FURTHER INFORMATION CONTACT: Gail M. Campos, Environmental Protection Specialist, Federal Aviation Administration, 777 South Aviation Boulevard, Suite 150, El Segundo, California 90045. Telephone 424-405-7269.

SUPPLEMENTARY INFORMATION: The FAA determined the noise exposure map submitted by the County of Ventura for Camarillo Airport, is in compliance with applicable statutory and regulatory requirements, effective June 6, 2025. Under title 49, United States Code (U.S.C.) section 47503, an airport operator may submit to the FAA, noise exposure maps depicting non-compatible uses as of the date such map is submitted, a description of estimated aircraft operations during a forecast period that is at least five years in the future and how those operations will affect the map. A noise exposure map must be prepared in accordance with title 14, Code of Federal Regulations (CFR) part 150, the regulations promulgated pursuant to 49 U.S.C. 47502 and developed in consultation with public agencies and planning authorities in the area surrounding the airport, state and Federal agencies, interested and affected parties in the local community, and aeronautical users of the airport. In addition, an airport operator that submitted a noise exposure map, which the FAA determined is compliant with statutory and regulatory requirements, may submit a noise compatibility program for FAA approval that sets forth measures the operator has taken or proposes to take to reduce existing non-compatible uses and prevent the introduction of additional non-compatible uses.

The FAA completed its review of the noise exposure map and supporting documentation submitted by the County of Ventura and determined the noise exposure map and accompanying documentation are compliant with applicable requirements. The documentation that constitutes the Noise Exposure Map includes: “Exhibit 1—2022 Existing Noise Exposure Map” and “Exhibit 2—2027 Noise Exposure Map” which addresses the current and forecast NEM graphics. The “Camarillo Airport 14 CFR part 150 Noise Exposure Map Update,” dated December 2023, complies all other applicable narrative, graphic, and tabular representations of the data including airport description, flight track data, aircraft operations data, aviation forecast data, on-airport and off-airport land use information as required by 14 CFR 150.101 and 49 U.S.C. sections 47503 and 47506. This determination is effective on June 6, 2025. FAA's determination on an airport's noise exposure map is limited to a finding that the noise exposure map was developed in accordance with the 49 U.S.C. sections 47503 and 47506 and procedures contained in 14 CFR part 150, Appendix A. FAA's acceptance of an NEM does not constitute approval of the applicant's data, information or plans, or a commitment to approve a noise compatibility program or to fund the implementation of that program. If questions arise concerning the precise relationship of specific properties within noise exposure contours depicted on a noise exposure map, it should be noted that the FAA is not involved in any way in determining the relative locations of specific properties with regard to the depicted noise contours or in interpreting the noise exposure maps to resolve questions concerning, for example, which properties should be covered by the provisions of 49 U.S.C. 47506. These functions are inseparable from the ultimate land use control and planning responsibilities of local government. These local responsibilities are not changed in any way under 14 CFR part 150 or through FAA review and acceptance of a noise exposure map. Therefore, the responsibility for the detailed overlaying of noise exposure contours onto the map depicting properties on the surface rests exclusively with the airport operator that submitted a noise exposure map or with those public and planning agencies with which consultation is required under 49 U.S.C section 47503. The FAA relied on the certification by the airport operator, under of 14 CFR 150.21 that the required consultations and opportunity for public review has been accomplished during the development of the noise exposure maps. Copies of the noise exposure map and supporting documentation and the FAA's evaluation of the noise exposure maps are available for examination at the following locations:

1. Federal Aviation Administration, Los Angeles Airports District Office, 777 South Aviation Boulevard, Suite 150, El Segundo, California 90045.

2. Camarillo Airport, County of Ventura, 555 Airport Way, Suite B, Camarillo, California 93010.

Questions may be directed to the individual listed in the FOR FURTHER INFORMATION CONTACT section of this notice.

Issued in El Segundo, California on June 6, 2025.
Faviola Garcia,
Acting Director, Airports Division, AWP-600, Western—Pacific Region.

[FR Doc. 2025-10606 Filed 6-10-25; 8:45 am]

BILLING CODE 4910-13-P